ENVIRONMENTAL PROTECTION AGENCY

[FRL-8759-4]

Recent Posting to the Applicability Determination Index (ADI) Database System of Agency Applicability Determinations, Alternative Monitoring Decisions, and Regulatory Interpretations Pertaining to Standards of Performance for New Stationary Sources, National Emission Standards for Hazardous Air Pollutants, and the Stratospheric Ozone Protection Program

AGENCY: Environmental Protection Agency (EPA).

ACTION: Notice of Availability.

SUMMARY: This notice announces applicability determinations, alternative monitoring decisions, and regulatory interpretations that EPA has made under the New Source Performance Standards (NSPS); the National Emission Standards for Hazardous Air Pollutants (NESHAP); and the Stratospheric Ozone Protection Program.

FOR FURTHER INFORMATION CONTACT: An electronic copy of each complete document posted on the Applicability Determination Index (ADI) database system is available on the Internet through the Office of Enforcement and Compliance Assurance (OECA) Web site at: http://www.epa.gov/compliance/monitoring/programs/caa/adi.html. The document may be located by control number, date, author, subpart, or subject search. For questions about the ADI or this notice, contact Maria Malave at EPA by phone at: (202) 564-7027, or by e-mail at: malave.maria@epa.gov. For technical questions about the individual applicability determinations or monitoring decisions, refer to the contact person identified in the individual documents, or in the absence of a contact person, refer to the author of the document.

SUPPLEMENTARY INFORMATION: Background: The General Provisions to the NSPS in 40 Code of Federal Regulations (CFR) part 60 and the NESHAP in 40 CFR part 61 provide that a source owner or operator may request a determination of whether certain intended actions constitute the commencement of construction, reconstruction, or modification. EPA's written responses to these inquiries are commonly referred to as applicability determinations. See 40 CFR 60.5 and 61.06. Although the part 63 NESHAP and section 111(d) of the Clean Air Act regulations contain no specific regulatory provision that sources may request applicability determinations, EPA does respond to written inquiries regarding applicability for the part 63 and section 111(d) programs. The NSPS and NESHAP also allow sources to seek permission to use monitoring or recordkeeping that are different from the promulgated requirements. See 40 CFR 60.13(i), 61.14(g), 63.8(b)(1), 63.8(f), and 63.10(f). EPA's written responses to these inquiries are commonly referred to as alternative monitoring decisions. Furthermore, EPA responds to written inquiries about the broad range of NSPS and NESHAP regulatory requirements as they pertain to a whole source category. These inquiries may pertain, for example, to the type of sources to which the regulation applies, or to the testing, monitoring, recordkeeping or reporting requirements contained in the regulation. EPA's written responses to these inquiries are commonly referred to as regulatory interpretations.

EPA currently compiles EPA-issued NSPS and NESHAP applicability determinations, alternative monitoring decisions, and regulatory interpretations, and posts them on the ADI on a quarterly basis. In addition, the ADI contains EPA-issued responses to requests pursuant to the stratospheric ozone regulations, contained in 40 CFR part 82. The ADI is an electronic index on the Internet with over one thousand EPA letters and memoranda pertaining to the applicability, monitoring, recordkeeping, and reporting requirements of the NSPS and NESHAP. The letters and memoranda may be searched by date, office of issuance, subpart, citation, control number or by string word searches.

Today's notice comprises a summary of 107 such documents added to the ADI on December 12, 2008 and December 23, 2008. The subject, author, recipient, date and header of each letter and memorandum are listed in this notice, as well as a brief abstract of the letter or memorandum. Complete copies of these documents may be obtained from the ADI through the OECA Web site at: http://www.epa.gov/compliance/monitoring/programs/caa/adi.html.

Summary of Headers and Abstracts

The following table identifies the database control number for each document posted on the ADI database system on December 12, 2008 and December 23, 2008; the applicable category; the subpart(s) of 40 CFR part 60, 61, or 63 (as applicable) covered by the document; and the title of the document, which provides a brief description of the subject matter.

We have also included an abstract of each document identified with its control number after the table. These abstracts are provided solely to alert the public to possible items of interest and are not intended as substitutes for the full text of the documents. This notice does not change the status of any document with respect to whether it is “of nationwide scope or effect” for purposes of section 307(b)(1) of the Clean Air Act. For example, this notice does not make an applicability determination for a particular source into a nationwide rule. Neither does it purport to make any document that was previously non-binding into a binding document.

ADI Determinations Uploaded on December 12, 2008
Control number | Category | Subpart | Title
A080001 | NSPS | J | Alternative Monitoring Plan for Refinery Fuel Gas.
M080005 | MACT | EEEEE | Force Majeure Events Delaying Initial Performance Testing for an Iron and Steel Foundry.
M080006 | MACT | EEEEE | Disapproval of Alternative Stack Testing Request.
M080007 | MACT | DDDDD | Request to Substitute Flue Gas Temperature Monitoring for Pressure Drop Monitoring.
M080008 | MACT | YY | Control Requirement for Plant Exhaust from Primary Bag Filter Vents when Routed and not Routed to a Cogeneration Unit.
M080009 | MACT | IIIII | Continuous Compliance Requirements for Mercury Recovery Units.
M080010 | MACT | EEEEE | Storage and Transfer of Toluene Used as Fuel.
M080011 | MACT | FFFF | Multiple Standard Batches to Define a Process within a Single MCPU.
M080012 | MACT | GGG, FFFF | MON Rule and Pharmaceuticals NESHAP for Glucosamine Hydrochloride.
M080013 | MACT | FFFF | Manufacture of Poly Methyl Methacrylate (PMMA) Acrylic Sheet.
M080014 | MACT | MMM, SS | Initial Compliance Demonstration for Thermal Treatment Units.
M080016 | MACT | GGG | Process Condensers and 20 ppmv Limit without Calculating Uncontrolled Emissions.
M080017 | MACT | MMM, SS | Use of Previously Conducted Performance Tests for Initial Compliance Demonstration.
M080018 | MACT | N | Alternative Testing, Monitoring, and Work Practice Standards.
M080019 | MACT | RRR | Request for Waiver of Performance Tests for Low-speed Aluminum Scrap Shredders.
M080020 | MACT | UUUU | Request for Alternative Monitoring Plan Following Replacement of GC/PID Instrument.
Z080003 | NESHAP | F | Alternative Monitoring Plan Modification.
800017 | NSPS | Db | Alternative Monitoring Procedure for Opacity.
800018 | NSPS | WWW | Alternative Monitoring Requests.
800019 | NSPS | WWW | Alternative Monitoring Requests.
800020 | NSPS | WWW | Alternative Monitoring Requests.
800021 | NSPS | J, Ja | Gap in Continuous Program of Construction for Process Heater.
800022 | NSPS | WWW | Request for Higher Operating Temperature at Landfill Wellhead.
800023 | NSPS | WWW | Request for Higher Operating Temperature at Landfill Wellhead.
800024 | NSPS | WWW | Alternative Compliance Timeline for Landfill.
800025 | NSPS | CC | Bridgewall Optical Temperature (BWOT) Alternative Monitoring Proposal.
800026 | NSPS | WWW | Alternative Compliance Timeline for Landfill Well.
800027 | NSPS | Db, Dc | Indirect-Fired Dryers used in the Ethanol Industry.
800028 | NSPS | UUU | Synthetic Alumina Applicability Determination.
800029 | NSPS | D | Continuous Particulate Emission Monitoring System.
800030 | NSPS | D | Continuous Particulate Emission Monitoring System.
800031 | NSPS | KKKK | Reconstruction of a Stationary Combustion Turbine.
800032 | NSPS | VV, VVa | Alternative Monitoring Procedure for Leak Detection.
800033 | NSPS | J | Revised Alternative Monitoring Plan Conditions for Hydrogen Sulfide.
800034 | NSPS | Dc | Boiler Derate Proposal.
800035 | NSPS | WWW | Alternative Compliance Timeline for Landfill Well.
800036 | NSPS | KKK | Applicability to Expansion Project at Propane Refrigeration Plant.
800037 | NSPS | UUU | Alternative Monitoring for Calciner.
800038 | NSPS | WWW | Alternative Compliance Timeline for Leachate Recirculation Line.
800039 | NSPS | WWW | Alternative Timeline to Correct Positive Pressure at Landfill Wells.
800040 | NSPS | WWW | Alternative Standards/Procedures for Oxygen/Pressure.
800041 | NSPS | Kb | Process Tanks Defined.
800042 | NSPS | Kb | Request for Reconsideration of Gasoline Storage Vessel Decision.
800043 | NSPS | GG, KKKK | Original owner/operator of Gas Turbine.
800044 | NSPS | Da | Modification to Increase Feed Rate with Bottleneck.
800045 | NSPS | Da | Modification to Increase Feed Rate with Bottleneck.
M080021 | MACT | RRR | Applicability to Aluminum Shredder/Baler.
M080022 | MACT | NNNNN | Alternative Monitoring for Water Scrubber/Mist Eliminator.
M080023 | MACT | RRR | Thermal Chip Dryer Operation Prior to Performance Testing.
M080024 | MACT | KKKK | Applicability determination for Metal Can Surface Coating NESHAP.
M080025 | MACT | G | Alternative Monitoring Parameters for HON Carbon Adsorber System.
M080026 | MACT | G | Alternative Monitoring Parameters for HON Carbon Adsorber System.
M080027 | MACT | RRR | Dioxin/Furan Stack Test Waiver Request.
M080028 | MACT | RRR | Dioxin/Furan State Test Waiver Request, OM & M Plan Deficiencies, and Lime Injection.
M080029 | MACT | CC, R | Alternate Monitoring Parameter for Assist Gas in Flare.
M080031 | MACT | DDDDD | Definition of Process Heater.
M080034 | MACT | FFFFF | Stack Test Waiver Request.
M080035 | MACT | JJJJ | Compliance Demonstration for Paper and Other Web Coating.
Z080004 | NESHAP | E | Applicability for Sludge Dryer.
800046 | NSPS | DD | Applicability and Alternative Control Conditions for Malting Facility.
800047 | NSPS | WWW | Treated Landfill Gas Exemption.
800048 | NSPS | J | Alternative Monitoring Plan at Petroleum Refinery.
800049 | NSPS | J | Alternative Monitoring for Petroleum Refinery Vapor Combustion Unit.
800050 | NSPS | J | Alternative Monitoring for Petroleum Refinery Vapor Combustion Unit.
800051 | NESHAP | E | Waiver of Mercury Emissions Testing for Refinery.
800052 | NSPS | UUU | Alternative Monitoring for Wet Scrubber.
800053 | NSPS | WWW | Alternative Timeline to Correct Exceedances at Landfill Well.
800054 | NSPS | WWW | Alternative Timeline to Correct Exceedances at Landfill Well.
800055 | NSPS | J | Alternative Monitoring for Vapors from Disulfide Separator Venting.
800056 | NSPS | OOO | Preparatory Processes for Gypsum Stucco Production.
800057 | NSPS | WWW | Alternative Timeline to Correct Exceedances at Landfill Well.
800058 | NSPS | WWW | Alternative Timeline to Correct Exceedances at Landfill Well.
800059 | NSPS | WWW | Alternative Timeline to Correct Exceedances at Landfill Well.
800060 | NSPS | WWW | Alternative Timeline to Correct Exceedances at Landfill Wells.
800061 | NSPS | WWW | Alternative Timeline to Correct Exceedances at Landfill Well.
800062 | NSPS | WWW | Alternative Temperature at Recycling and Disposal Facility.
800063 | NSPS | WWW | Alternative Temperature at Recycling and Disposal Facility.
800064 | NSPS | WWW | Alternative Timeline to Correct Exceedances at Landfill Well.
800065 | NSPS | WWW | Alternative Monitoring Procedures at a Landfill.
800066 | NSPS | WWW | Alternative Timeline to Correct Exceedance at Landfill Well.
800067 | NSPS | WWW | Alternative Timeline to Correct Exceedance at Landfill Well.
800068 | NSPS | WWW | Alternative Monitoring, Testing, and Other Requirements for a Landfill.
800069 | NSPS | WWW | Treated Landfill Gas Exemption.
800070 | NSPS | WWW | Alternative Timeline to Correct Exceedance at Landfill Well.
800071 | NSPS | GG | Revision of Custom Fuel Monitoring Schedule.
800072 | NSPS | WWW | Emissions Rate Reporting Requirements at Landfill.
800073 | NSPS | BB | Applicability Determination for Kraft Pulp Mill TRS Emissions.
800074 | NSPS | OOO | Performance Testing Requirement Condition D.4.6.
800075 | NSPS | AAa | Installation of a Capacitor/Reactor at an Electric Arc Furnace.
800076 | NSPS | J | Alternative Monitoring for Opacity Due to Wet Gas Scrubber.
800077 | NSPS | WWW | Alternative Timeline to Correct Exceedance at a Landfill Well.
800078 | NSPS | WWW | Alternative Timeline to Correct Exceedance at a Landfill Well.
800079 | NSPS | AAAA, WWW | Landfill Gas Treatment Exemption.
800080 | NSPS | J | Alternative Monitoring for Thermal Vapor Incinerator.
800081 | NSPS | J | Alternative Monitoring Plan for Propane Vapor from a Vent Gas Absorber.
800082 | NSPS | J | Alternative Monitoring Request for FCCU COMS at a Refinery.
800083 | NSPS | DD | Applicability for Co-Located Grain Elevators.
800084 | NSPS | OOO | Alternative Testing Method Request for Wallboard Shredder.
800085 | NSPS | WWW | Alternative Timeline to Correct Exceedance at a Landfill Well.
800086 | NSPS | WWW | Change to Standard Operating Procedure at a Landfill.
800087 | NSPS | H | Applicability for Sulfuric Acid Plants with Hydrogen Sulfide Burning Processes.
M080037 | MACT | RRR | Compliance with ACGIH Ventilation Manual.
M080036 | MACT | RRR | Clean Charge Defined.
0800088 | NSPS | J | Applicability to a Refinery Flare.
ADI Determinations Uploaded on December 23, 2008
0800089 | NSPS | Db | Dryers at OSB Bark Burner System.
0800090 | NSPS | J, Ja | Integrated Gasification Combined Cycle Power Plant.
Z080005 | NESHAP | CC | Integrated Gasification Combined Cycle Power Plant.

Abstracts

Abstract for [A080001]

Q: Does EPA allow ConocoPhillips' Wood River Refinery in Roxana, Illinois, to monitor the liquid benzene at the finished product tanks under 40 CFR part 60, subpart J, in lieu of continuously monitoring the sulfur dioxide concentration of the displaced barge vapors from benzene loading? These displaced barge vapors are directed to the Marine Vapor Control system thermal oxidizer.

A: Yes. EPA finds that the proposed alternative monitoring proposal from ConocoPhillips meets the requirements of EPA's guidance entitled “Alternative Monitoring Plan for NSPS subpart J Refinery Fuel Gas.” The displaced benzene vapors from the benzene loading are inherently low in sulfur content.

Abstract for [M080005]

Q: Does EPA consider, as force majeure, certain furnace malfunctions and labor strikes that prevented stack tests from being conducted before the compliance deadline under 40 CFR part 63, subpart EEEEE, at the Indianapolis Casting facility in Indianapolis, Indiana?

A: Yes. EPA finds that the certain events, such as furnace malfunctions and labor strikes, as described in EPA's response to Indianapolis Casting, can be considered as force majeure under MACT subpart A. The furnace malfunctions were safety related and required extended furnace shut downs for repair, and labor actions are beyond the control of the company.

Abstract for [M080006]

Q: Does EPA accept stack test results performed before the compliance deadline of 40 CFR part 63, subpart EEEEE, as the required initial compliance demonstration at the Indianapolis Casting facility in Indianapolis, Indiana?

A: Yes. EPA accepts stack test results before the compliance deadline under MACT subpart EEEEE as the initial compliance demonstration only if the production rates achieved during the April 2005 tests are representative of the highest production rates currently achievable, and the gas sample volume collected meets or exceeds 60 dry standard cubic feet for each sampling run as specifically required under 40 CFR 63.7732(b)(2).

Abstract for [M080007]

Q: Does EPA allow S.D. Warren to monitor the flue gas temperature of the wet scrubber outlet in lieu of monitoring the pressure drop across the wet scrubber under 40 CFR part 63, subpart DDDDD? The S.D. Warren Company/SAPPI Fine Paper of North America's Skowhegan, Maine, pulp mill has a large multi-fuel boiler with an associated wet scrubber that does not experience a significant pressure drop because it is an open vessel.

A: Yes. EPA finds this acceptable under MACT subpart DDDDD. A temperature drop in the range of 250 degrees Fahrenheit at the scrubber outlet will indicate that the flue gases are coming into contact with the scrubber water in order to control particulate matter emissions. A continuous monitoring system that can be used to determine and record the flue gas temperature of the boiler wet scrubber outlet at least once every successive 15-minute period should be installed, calibrated, maintained, and operated.

Abstract for [M080008]

Q: What are the applicability and control requirements under 40 CFR part 63, subpart YY, for the plant exhaust from the primary bag filter vents for Units 1, 2, and 3 at the Sid Richardson Big Springs facility in Howard County, Texas, which are primarily routed to a cogeneration unit but also can be routed away from the facility's cogeneration unit to a flare?

A: The facility would be subject to different requirements under MACT subpart YY depending upon the use of the exhaust gas. When the facility routes the exhaust gas to the cogeneration unit, no control requirements would apply. During the times the facility bypasses the cogeneration system to the flare, the plant exhaust from the primary bag filter vents for Units 1, 2, and 3 must meet the requirements under MACT subpart YY for process vents, unless there is a startup, shutdown, or malfunction (SSM). When the plant exhaust from the primary bag filter vents for Units 1, 2, and 3 bypasses the cogeneration unit during SSM, the facility must follow its SSM plan.

Abstract for [M080009]

Q: Does 40 CFR part 63, subpart IIIII require a daily average or an hourly average to determine continuous compliance with the emissions standard for mercury recovery units under Section 63.8190(a)(3)?

A: When determining continuous compliance with the emissions standard for mercury recovery units under 40 CFR 63.8190(a)(3), a facility should calculate a daily average mercury concentration, using Equation 2 at 40 CFR 63.8240(a).

Abstract for [M080010]

Q: Does the exemption from the definition of “organic liquid” for gasoline (including aviation gasoline), kerosene (No. 1 distillate oil), diesel (No. 2 distillate oil), asphalt, and heavier distillate oils and fuel oils in 40 CFR 63.2406 of the Organic Liquid Distribution National Emissions Standard for Hazardous Air Pollutants (NESHAP), 40 CFR part 63, subpart EEEE (OLD MACT) include the use of toluene as a fuel in the inorganic chemical process that manufactures titanium dioxide (TiO2) at the DuPont Company (DuPont) of Wilmington, Delaware?

A: No. EPA concludes that the OLD MACT applies to the storage and transfer of toluene used as fuel in the production of TiO2. The exemption in 40 CFR 63.2406(3)(i) in the definition of “organic liquid” applies only to those expressly listed liquids. Because toluene is an organic liquid and is not gasoline, kerosene, diesel, asphalt, or a heavier distillate oil or fuel oil, it is not eligible for the exemption under 40 CFR 63.2406(3)(i) merely because it may be used as a fuel.

Abstract for [M080011]

Q: Does EPA allow a facility to use multiple standard batches to define a process within a single miscellaneous chemical manufacturing process unit (MCPU) under 40 CFR part 63, subpart FFFF, National Emission Standards for Hazardous Air Pollutants: Miscellaneous Organic Chemical Manufacturing (the MON rule)?

A: EPA finds that a facility may request that EPA exercise its authority under 40 CFR 63.10(f) to modify the recordkeeping and reporting requirements in the MON rule and allow multiple standard batches per process. Facilities can request approvals of alternative recordkeeping and reporting in their precompliance reports. [See 40 CFR 63.2520(c)]. Alternatively, requests submitted after the due date of the precompliance report (i.e., after November 13, 2007) may be submitted under 40 CFR 63.10(f).

Abstract for [M080012]

Q1: Which Standard Industrial Classification (SIC) code applies to the glucosamine hydrochloride production process at Cargill Incorporated in Eddyville, Iowa?

A1: The appropriate SIC code for the glucosamine hydrochloride production process is 289, Miscellaneous Chemical Products.

Q2: Is the process subject to 40 CFR part 63, subpart FFFF, the National Emission Standards for Hazardous Air Pollutants: Miscellaneous Organic Chemical Manufacturing (MON) Rule?

A2: Yes. The glucosamine hydrochloride production process is subject to the MON Rule.

Q3: If this process is not subject to the MON Rule, is it subject to the Pharmaceuticals NESHAP or another NESHAP?

A3: No, the facility is not subject to the Pharmaceuticals NESHAP or another NESHAP.

Abstract for [M080013]

Q. Is the process by which the Spartech Polycast facility in Stamford, Connecticut, manufactures poly methyl methacrylate (PMMA) acrylic sheet subject to 40 CFR part 63, subpart FFFF?

A. Yes. Spartech's operations produce a material (PMMA) classified using Standard Industrial Classification (SIC) code 282 or The North American Industry Classification System (NAICS) NAICS code 325, and its operations meet all the other criteria for MACT subpart FFFF to apply.

Abstract for [M080014]

Q: Does EPA approve the use at Dow Chemical's Midland, Michigan, facility of the results of performance tests conducted on three thermal treatment units under 40 CFR part 63, subparts GGG and MMM, in lieu of conducting an initial compliance demonstration for 40 CFR part 63, subpart FFFF (the MON)?

A: Yes. EPA approves the use of these previously conducted performance tests as the initial compliance demonstration for the MON, based in part on Dow Chemical's use of test methods referenced in MACT subpart FFFF and its declaration that no significant process changes have occurred since these tests.

Abstract for [M080016]

Q1: Does EPA approve Dow AgroSciences' (DAS) request to monitor the liquid temperature of its condensers at its Harbor Beach, Michigan, facility as an alternative to measuring the exhaust gas temperature when demonstrating initial compliance with 40 CFR part 63, subpart GGG (the Pharma-MACT)?

A1: No. In regards to the initial compliance demonstration for process condensers under MACT subpart GGG, EPA will not approve DAS's request to monitor the liquid temperature as an alternative to monitoring the exhaust gas temperature because DAS started operating its condensers before the compliance date, and it did not present sufficient technical justification for the alternative method.

Q2: Does EPA approve DAS's request to comply with the 20 ppmv outlet concentration limit under § 63.1254(a)(1)(ii)(A) without calculating uncontrolled hazardous air pollutant emissions from all emission episodes using the equations specified in § 63.1257(d)(2)(i), or developing an engineering assessment as allowed in Section 63.1257(d)(2)(ii), or developing an emission profile as required by § 63.1257(b)(8)(ii)?

A2: No. In regards to complying with the 20 ppmv outlet concentration limit under 40 CFR 63.1254(a)(1)(ii)(A), EPA will not approve DAS's request to forgo calculating uncontrolled emissions, developing an engineering assessment, or developing an emission profile because the alternative standard, at § 63.1254(c), is the only process-vent compliance option for the Pharma-MACT that does not require calculation of uncontrolled emissions because it requires continuous monitoring through a continuous emission monitoring system (CEMS). As DAS does not employ a CEMS, the only way it can ensure compliance with 40 CFR 63.1254(a)(1)(ii)(A) is if it calculates uncontrolled emissions and develops an emission profile under worst-case conditions.

Abstract for [M080017]

Q: Does EPA approve at Dow Chemical Company's Midland, Michigan, facility, the use of the results of performance tests conducted on three thermal treatment units per 40 CFR part 63, subparts GGG and MMM, in lieu of conducting an initial compliance demonstration for 40 CFR part 63, subpart FFFF (the MON)?

A: Yes. EPA approves the use of these previously conducted performance tests as the initial compliance demonstration for the MON, based on Dow's use of test methods referenced in 40 CFR part 63, subpart FFFF and statement that no significant process changes have occurred since these tests.

Abstract for [M080018]

Q: Does EPA approve alternative test methods, monitoring, and work practice standards under 40 CFR part 63, subpart N, for Finishing Innovation's proposed new hard chrome electroplating tank in Warsaw, Indiana? The proposed new tank will be equipped with an Emission Elimination Device (EED), or formerly known as the Merlin Cover, which is a patented system which totally encloses the chrome tank while plating takes place.

A: Yes. EPA approves the proposed alternative test method, monitoring procedures and work practices consistent with previous approvals. EPA's Office of Air Quality Planning and Standards (OAQPS) approved an alternative test method utilizing a smoke generation device. This device would be ignited and placed inside the EED and the absence of leaking smoke confirmed to demonstrate that the EED completely encloses the atmosphere over the chrome electroplating tank. EPA Region 5 has also approved alternative monitoring requirements and work practices to monitor continuous compliance of the EED and to ensure that it maintains compliance.

Abstract for [M080019]

Q: Does J.L. French Corporation's variance request letter contain adequate information for the EPA to approve a request for waiver of initial performance tests as well as all subsequent performance tests for the existing aluminum scrap shredders located at J.L. French Corporation's Gateway and Taylor secondary aluminum production facilities in Sheboygan, Wisconsin?

A: No. EPA finds that based on the information submitted to the EPA, we cannot approve J.L. French Corporation's request for waiver of initial performance tests, as well as all subsequent performance tests for the existing aluminum scrap shredders. For the EPA to make an informed decision either approving or denying such a request, J.L. French Corporation's application for waiver of performance tests must be accompanied by a comprehensive compliance status report proving compliance with the relevant aluminum scrap shredder standards at 40 CFR part 63, subpart RRR. In addition, 40 CFR 63.7(h)(3)(iii) provides that any application for a waiver of a performance test shall include information justifying the owner or operator's request for a waiver, such as the technical or economic infeasibility, or the impracticality, of the affected source performing the required test.

Abstract for [M080020]

Q: Does EPA approve a change to Viscofan's (formerly Teepak) alternative monitoring plan under 40 CFR part 63, subpart UUUU, originally approved in February 2005 at its facility in Danville, Illinois? Viscofan would like to replace one of its GC/PID instruments with a new Baseline-MOCON, Incorporated Model 8900 GC/PID to measure hydrogen sulfide and carbon disulfide.

A: Conditional. EPA has determined that it is acceptable under MACT subpart UUUU for Viscofan to perform a carrier gas (zero) and a single upscale gas Quality Control (QC) check on a daily basis for each chemical monitored.

However, Viscofan must still do a full linearity-type calibration (zero and at least three upscale gas concentrations) initially and at least quarterly thereafter for each chemical monitored.

Abstract for [Z080003]

Q: Does EPA allow modification in the existing vinyl chloride alternative monitoring plan under 40 CFR part 61, subpart F, for Lubrizol Advanced Material's polyvinyl chloride plant in Louisville, Kentucky?

A: Yes. Based upon a statistical analysis presented by Lubrizol, EPA finds that there are only minor differences between individual and composite resin samples that the company analyzes on a monthly basis under NESHAP subpart F. Therefore, EPA waives the requirement to compare the results of individual and composite samples on a monthly basis.

Abstract for [0800017]

Q: Does EPA approve an alternative opacity monitoring procedure, which consists of monitoring the secondary power input to the electrostatic precipitator (ESP), for a boiler at the U.S. Sugar facility in Clewiston, Florida, which is subject to 40 CFR part 60, subpart Db?

A: No. Because NSPS subpart Db was modified to allow the use of a particulate matter continuous emission monitoring system (PM CEMS) as an alternative to the use of a continuous opacity monitoring system (COMS), EPA finds that there is no justification for now allowing the use of parametric monitoring of the ESP. Therefore, unless U.S. Sugar can demonstrate that a PM CEMS is not a viable alternative to a COMS, EPA does not approve the request to use parametric monitoring, which is a less accurate and reliable alternative.

Abstract for [0800018]

Q: Does EPA approve changes to monitoring and operational requirements for the landfill operated by Environtech in Morris, Illinois, under 40 CFR part 60, subpart WWW?

A: Conditional. EPA finds that it needs to approve alternatives to monitoring and operational requirements that are part of the design plan, and EPA's Office of Air Quality Planning and Standards (OAQPS)needs to approve such alternative test methods. However, the Illinois Environmental Protection Agency (IEPA) has the authority to approve non-monitoring, non-operational changes to the design plan. EPA refers to several previous determinations on the Applicability Determination Index (ADI) with ADI Control Numbers 03000120, 0400033, 0600062, 0600063, and M040028, and the modifications of September 21, 2006, to 40 CFR part 60 (71 FR 55127) in addressing many specific requests.

Abstract for [0800019]

Q: Does EPA approve changes to monitoring and operational requirements for the landfill operated by LandComp in Ottawa, Illinois, under 40 CFR part 60, subpart WWW?

A: Conditional. EPA finds that it needs to approve alternatives to monitoring and operational requirements that are part of the design plan, and EPA's Office of Air Quality Planning and Standards (OAQPS) specifically within EPA needs to approve alternative test methods. However, the Illinois Environmental Protection Agency (“IEPA”) has the authority to approve non-monitoring, non-operational changes to the design plan. EPA refers to a several previous applicability determinations on the Applicability Determination Index (ADI) with ADI Control Numbers 03000120, 0400033, 0600062, 0600063, and M040028, and the modifications of September 21, 2006, to part 60 (71 Federal Register 55127) in addressing many specific requests.

Abstract for [0800020]

Q: Does EPA approve changes to monitoring and operational requirements for the landfill operated by Lee County in Dixon, Illinois, under 40 CFR part 60, subpart WWW?

A: Conditional. EPA finds that it needs to approve alternatives to monitoring and operational requirements that are part of the design plan, and EPA's Office of Air Quality Planning and Standards (OAQPS) needs to approve alternative test methods. However, IEPA has the authority to approve non-monitoring, non-operational changes to the design plan. EPA refers to several previous applicability determinations on the Applicability Determination Index (ADI) with ADI Control Numbers 03000120, 0400033, 0600062, 0600063, and M040028, and the modifications of September 21, 2006, to part 60 (71 FR 55127) in addressing many specific requests.

Abstract for [0800021]

Q: Does EPA allow the gas-fired process heater (new 77F-1) installed at the Marathon Ashland Petroleum refinery (Marathon) in Robinson, Illinois, to be exempt from 40 CFR part 60, subpart Ja, given that the heater was purchased in 2001 but never installed?

A: No. Given the six-year gap since the purchase of the heater and its incomplete fabrication, and given further that Marathon has not started the bidding process to ship and install the process heater, EPA finds that Marathon has not undertaken a continuous program of construction and has not “commenced construction” of an “affected facility” on or prior to May 14, 2007. Thus, when the heater is constructed at the refinery and upon the effective date of NSPS subpart Ja, the heater will be subject to NSPS subpart Ja.

Abstract for [0800022 & 0800023]

Q: Does EPA allow the Milam Recycling and Disposal facility (Milam) in East Street Louis, Illinois, to obtain a higher operating temperature for landfill gas extraction wells MW 39 and MW58 under 40 CFR part 60, subpart WWW?

A: Yes. The NSPS requires that each interior wellhead in the collection system operate with a landfill gas temperature less than 131 degrees Fahrenheit. The facility may request a higher operating temperature under NSPS subpart WWW if supporting data demonstrate that the elevated temperature does not cause fires or inhibit anaerobic decomposition by killing methanogens. As Milam has submitted such data, EPA approves a higher operating temperature of 140 degrees Fahrenheit for well MW39 and MW58.

Abstract for [0800024]

Q: Does EPA approve an alternative timeline, under 40 CFR part 60, subpart WWW, to correct oxygen exceedances at leachate cleanout riser LCO-02A at the Veolia Orchard Hills Landfill in Davis Junction, Illinois?

A: Yes. EPA approves the alternative timeline under NSPS subpart WWW. Veolia Orchard Hills Landfill may have until 45 days of the initial exceedance to correct the oxygen exceedances.

Abstract for [0800025]

Q: Does EPA allow the Owens-Brockway Glass Container facility in Lapel, Indiana, to measure the bridgewall optical temperature (BWOT), under 40 CFR part 60, subpart CC, three times per shift instead of installing and operating a continuous opacity monitor on its Furnace Number 32?

A: No. NSPS subpart CC requires that continuous parameter monitoring systems complete a minimum cycle of operation (sampling, analyzing and data recording) every 15 minutes. EPA determines that if the BWOT cannot be measured continuously, then it is not an appropriate alternative monitoring parameter to opacity, and the facility should install a COM.

Abstract for [0800026]

Q: Does EPA approve an alternative timeline under 40 CFR part 60, subpart WWW, to correct oxygen exceedances at Veolia's Valley View Landfill in Decatur, Illinois?

A: Yes. EPA approves an extension of up to 53 days from the date of the initial exceedance to bring wells 19R and 26R into compliance with the oxygen concentration standard under NSPS subpart WWW.

Abstract for [0800027]

Q1: Does EPA consider indirect-fired dryers used in the ethanol industry subject to 40 CFR part 60, subparts Db or Dc?

A1: EPA finds that both NSPS subparts Db and Dc apply to indirect-fired dryers as they use the process of drying in a closed steam loop system with an integrated thermal oxidizer to transfer heat across a physical barrier. In the indirect heating method being used, they meet the definition of a steam generating unit under 40 CFR 60.41b and 60.41c.

Abstract for [0800028]

Q1: Does EPA considered any of the material used as a feedstock on the Spherical Catalyst Manufacturing (SCM) Line 1 at UOP's Shreveport, Louisiana, plant, a “mineral” as term is used in the definition of “mineral processing plant,” under NSPS subpart UUU?

A1: No. EPA finds that none of the feed materials used on SCM Line 1 (pure aluminum, hydrochloric acid, and/or aluminum hydroxychloride solution) is a “mineral,” as the term is used in the definition of “mineral processing plant,” under at 40 CFR 60.731.

Q2: Does synthetic alumina produced on the Spherical Catalyst Manufacturing (SCM) Line 1 at UOP's Shreveport, Louisiana, plant, using a combination of pure aluminum, hydrochloric acid, and/or aluminum hydroxychloride solution, meet the definition of a “mineral,” as the term is used in NSPS CFR subpart UUU in the definition of the affected facility: each calciner and dryer at a “mineral processing plant,” located in NSPS subpart UUU at 40 CFR 60.730?

A2: No. EPA finds that the synthetic alumina produced on SCM Line 1 does not meet the definition of “mineral.”

Q3: Is SCM Line 1, located at UOP's Shreveport, Louisiana, plant, processing a “mineral,” as the term is used in 40 CFR part 60, subpart UUU, or producing a “mineral,” as the term is used in the definition of the affected facility (each calciner and dryer at a “mineral processing plant”) in subpart UUU, potentially subject to NSPS part 60, subpart UUU?

A3: No. EPA finds that SCM Line 1 cannot be subject to subpart UUU, because it neither processes a “mineral,” nor does it produce a “mineral,” and, therefore, it does not meet the NSPS subpart UUU definition of a “mineral processing plant”

Abstract for [0800029]

Q: Does EPA allow Louisville Gas and Electric (LG&E) to substitute particulate matter continuous emission monitoring systems (PM CEMS) for continuous opacity monitoring systems (COMS) under 40 CFR part 60, subpart D, on Units 3 and 4 at its Mill Creek Station in Louisville, Kentucky?

A: Yes. Because EPA believes that PM CEMS will be superior to COMS for verifying compliance with the applicable particulate emission limit for Units 3 and 4, LG&E's alternative monitoring proposal under NSPS subpart D is approved, provided that a number of conditions outlined in the approval are met.

Abstract for [0800030]

Q: Does EPA allow the Kentucky Utilities Company (KU) to substitute particulate matter continuous emission monitoring systems (PM CEMS) for continuous opacity monitoring systems (COMS) under 40 CFR part 60, subpart D, on Unit 3 at its Mill Ghent Station in Ghent, Kentucky?

A: Yes. Because EPA believes that PM CEMS will be superior to COMS for verifying compliance with the applicable particulate emission limit under NSPS subpart D for Unit 3, EPA approves KU's alternative monitoring request, provided that a number of conditions outlined in the EPA response are met.

Abstract for [0800031]

Q: Does the replacement of the gas turbine at the Bristol-Myers Squibb facility in New Brunswick, New Jersey, constitute reconstruction under 40 CFR part 60, subpart KKKK?

A: Conditional. For the purpose of NSPS subpart KKKK, EPA finds that the affected facility is not limited to the turbine itself. It is not clear from the submittal what the fixed capital cost of the new components is as compared to a similar entirely new facility. Costs outside of the affected facility, such as the building, air pollution control, testing, and monitoring equipment, site preparation, removal of the old turbine, and contingency costs should not be included.

Abstract for [0800032]

Q: Does EPA approve the use of sensory means (i.e., visual, audible, or olfactory), as an alternative, under 40 CFR part 60, subparts VV and VVa, to using EPA Method 21 for the identification of leaks from equipment in acetic acid service at the Eastman Chemical Company facility in Columbia, South Carolina?

A: Yes. EPA finds that the proposed alternative is acceptable under NSPS subparts VV and VVa. Monitoring results provided by Eastman indicate that leaks from equipment in acetic acid service are more easily identified through sensory methods than by using Method 21 because of the physical properties (high boiling point, high corrosivity, and low odor threshold) of acetic acid and the process conditions at the plant.

Abstract for [0800033]

Q: May Air Products and Chemicals, Inc. (Air Products) use the process monitor as the primary method to measure hydrogen sulfide (H2S) for two furnaces located within the ExxonMobil Joliet, Illinois, refinery, and eliminate the previously stipulated alternative monitoring plan (AMP) conditions that require random H2S grab sampling, under the New Source Performance Standards for Petroleum Refineries, 40 CFR part 60, subpart J.

A: No. EPA finds that the conditions of the AMP cannot be revised, because monitoring a process parameter is not a substitute for H2S grab sampling. Please refer to a previous EPA approved AMP available on the Applicability Determination Index (AD)) under ADI Control Number 0100037.

Abstract for [0800034]

Q: Does EPA approve a boiler derate proposal , under 40 CFR part 60, subpart Dc, based on changes made to the natural gas-fired boiler at the facility located in Dearborn, Michigan?

A: Yes. EPA approves this proposal under NSPS subpart Dc, as it will reduce the capacity of the boiler and will comply with EPA's policy on derates.

Abstract for [0800035]

Q: Does EPA approve an alternative compliance timeline under 40 CFR part 60, subpart WWW, to correct a pressure exceedance at the Livingston Landfill, Well GW10, located in Pontiac, Illinois?

A: No. On November 20, 2007, the GW10 well at Livingston Landfill showed a positive pressure reading. On December 3, 2007, Livingston requested an extension to bring the well into compliance. However, according to a phone conversation between EPA and Cornerstone Environmental Group on January 4, 2008, the well had achieved compliance within 15 days of the initial exceedance. Therefore, EPA determines that an alternative compliance timeline was not required.

Abstract for [0800036]

Q: Does EPA concur with Michigan Consolidated Gas Company (MichCon), a solely owned subsidiary of DTE Energy LLC, that 40 CFR part 60, subpart KKK, does not apply to the recent expansion project of a propane refrigeration plant at MichCon's Belle River Mills facility?

A: No. EPA determines that NSPS subpart KKK is applicable to the recent expansion project because the propane refrigeration system uses a process that extracts “natural gas liquids.” Thus, the facility meets the definition of a natural gas processing plant set forth in 40 CFR 60.631.

Abstract for [0800037]

Q: Does EPA approve an alternative monitoring plan, under 40 CFR part 60, subpart UUU, to monitor the nozzle pressure of a Venturi scrubber instead of the pressure loss of the gas stream through the Venturi scrubber at 3M's Cottage Grove, Minnesota, facility?

A: Yes. EPA finds that the 3M Company has demonstrated that the nozzle pressure is a reasonable alternative under NSPS subpart UUU to the pressure loss of the gas stream through the Venturi scrubber.

Abstract for [0800038]

Q: Does EPA approve an alternative timeline under 40 CFR part 60, subpart WWW, to correct oxygen exceedances at Veolia Orchard Hills Landfill's Leachate Recirculation Line LRW-12, located in Davis Junction, Illinois?

A. Yes. On February 14, 19, and 26, 2008, Veolia's leachate recirculation line, LRW-12, exceeded the 5 percent oxygen concentration standard. EPA approved an alternate timeline under NSPS subpart WWW for Veolia to correct the oxygen exceedances until May 14, 2008. EPA finds that if the oxygen standard cannot be met by May 14, 2008, the landfill will need to apply to have the well decommissioned. If Illinois EPA does not approve such decommissioning, and Veolia cannot achieve an oxygen concentration below 5 percent by May 14, 2008, then Veolia must have the gas collection system expanded by 120 days of the initial exceedance.

Abstract for [0800039]

Q: Does EPA approve an alternative timeline under 40 CFR part 60, subpart WWW, for Roxana Landfill, in Roxana, Illinois, to correct positive pressure at the wells number 6, 7, 8, 18, 20, 22, 23, 24, 38, 39, 40, 41, 42, 43, 44, 45, and 46 wells?

A: Yes. EPA approves Roxana's proposed alternative timeline under NSPS subpart WWW. However, if Roxana cannot measure and achieve negative pressure without excess air infiltration at the wells number 6, 7, 8, 18, 20, 22, 23, 24, 38, 39, 40, 41, 42, 43, 44, 45, and 46 by the alternative compliance date, Roxana must expand the gas collection system within 120 days of the initial exceedances.

Abstract for [0800040]

Q: Does EPA approve alternative operational standards and procedures under 40 CFR part 60, subpart WWW, for oxygen/pressure for six low gas producing wells at Veolia Environmental Services' Zion Landfill in Zion, Illinois?

A: Yes. EPA approves adjusted standards and procedures under NSPS subpart WWW for oxygen and pressure for low gas producing extraction points where gas flows are so low that applying even minimal vacuum results in exceedances of the applicable oxygen concentration limit and the persistent oxygen/pressure exceedances are not due to operational or maintenance issues. Instead of decommissioning or permanently disconnecting such extraction locations, which would result in no gas control, it is better to keep operating them and allow the locations to remain shut off, under positive pressure, with monthly monitoring and periodic adjustment to vacuum to remove accumulated landfill gas.

Abstract for [0800041]

Q1: Do the process and alcohol day tanks at Archer Daniels Midland's (ADM) dry mill ethanol production facility at its existing corn wet mill in Columbus, Nebraska, meet the process tank definition which exempts them from the control requirements of 40 CFR part 60, subpart Kb?

A1: Yes. EPA finds that these tanks are used within the process, are process tanks, and are not considered storage vessels subject to NSPS subpart Kb

Q2: Is the alcohol QC tank also a process tank and not a storage vessel under NSPS subpart Kb?

A2: No. EPA finds that this tank does not engage in the type of unit operations or other functions described for process tanks, and is outside of the process. The sampling performed at the tank does not qualify this tank as a process tank. It is subject to NSPS subpart Kb as a storage vessel.

Q3: Is the alcohol reclaim tank a process tank and not a storage vessel under NSPS subpart Kb?

A3: No. EPA finds that this tank serves as a feed vessel for reintroduction of material back into the process. It is not within the process, and is a storage vessel subject to NSPS subpart Kb.

Abstract for [0800042]

Q: Does EPA rescind two determinations posted to the Applicability Determination Index (ADI) with ADI Control Numbers 0400015 and 0500014 regarding modification of storage tanks due to storage of gasoline under 40 CFR part 60, concerning which the American Petroleum Institute (API) believes the sources are exempt?

A: No. EPA finds that the facilities at issue are not facilities owned or operated by API, and reconsideration of one of the determinations has already been requested by the source owner/operator and is being addressed by the Agency.

Abstract for [0800043]

Q: For Missouri River Energy Services' (MRES) facility in Audubon, Iowa, does EPA consider the manufacturer the original owner or operator of a stationary gas turbine under 40 CFR part 60, subpart GG, and 40 CFR part 60, subpart KKKK?

A: Conditional. EPA finds that it depends on whether the entire affected facility was completely manufactured and fabricated by the manufacturer and purchased in completed form. In the analysis of this specific case, EPA determined that the turbine manufacturer was the original owner or operator. However, it is not true as a general matter that manufacturers of gas turbines are always the original owners or operators.

Abstract for [0800044]

Q1: Do physical changes to increase the coal feed rate to maintain generating capacity when switching coal type at NRG Energy's Indian River Generating Station in Millsboro, Delaware, constitute a modification of the boiler under 40 CFR part 60, subpart Da?

A1: Yes. EPA finds that physical changes to increase the coal feed rate would enable an increase in kg/hr emissions under NSPS subpart Da.

Q2: If the dedicated steam turbines physically limit the amount of steam that may be generated, does this prevent the boiler from being modified?

A2: No. EPA finds that applicability is determined based on the affected facility alone. Changes made to a downstream unit which is not part of the affected facility do not affect applicability of the boiler.

Abstract for [0800045]

Q: Does EPA consider the pressure limitations on boilers at the NRG Energy Indian River Generating Station in Millsboro, Delaware, as a limiting factor in the source's ability to increase emissions due to a proposed increase in feed rate under 40 CFR part 60, subpart Da?

A: EPA believes the proposed changes could enable an increase in kg/hr emissions under NSPS subpart Da.

Abstract for [M080021]

Q: Does EPA waive the applicability of 40 CFR 63.1511(e) for the aluminum shredder/baler at the Alcoa facility in Newburgh, Indiana, under MACT subpart RRR?

A: No. EPA does not waive the applicability of 40 CFR 63.1511(e), including all monitoring and testing requirements, to the aluminum shredder/baler. EPA does not believe the performance testing proposed by Alcoa provides sufficient evidence for the waiver because one test is insufficient.

Abstract for [M080022]

Q: Does EPA approve the alternative monitoring request for the Cognis facility in Kankakee, Illinois, under 40 CFR part 63, subpart NNNNN? The facility requests approval to remove scrubber effluent pH as one of the monitoring parameters for a water scrubber/mist eliminator.

A: Yes. EPA approves the alternative monitoring plan requested by Cognis under MACT subpart NNNNN. Cognis's water scrubber is a “once through” scrubber system, and the scrubber always has enough absorptive capacity for the CHI, regardless of the pH.

Abstract for [M080023]

Q: Does EPA approve the request from Allied Metal Company (Allied), located in Chicago, Illinois, to begin operation of a thermal chip dryer, under 40 CFR part 63, subpart RRR?

A: Conditional. EPA approves Allied's request under MACT subpart RRR, but only if Allied operates the thermal chip dryer and all associated emission control equipment for performance test preparation beginning in January 2007. All performance testing must be completed by March 1, 2007. If Allied cannot follow this schedule, Allied must cease operating the thermal chip dryer and notify EPA.

Abstract for [M080024]

Q: How does EPA find that the delisting of 2-butoxyethanol from the list of hazardous air pollutants (HAPs) affects the Hydrite Chemical Company (Hydrite) in Oshkosh, Wisconsin, under 40 CFR part 63, subpart KKKK? The facility had obtained permits to limit the potential-to-emit of HAPs to less than 25 tons of all combined HAPs and less than ten tons of any individual HAP.

A: EPA finds that if the permit limits for Hydrite were federally enforceable before the first major compliance date for existing sources, which is November 13, 2006, the facility would be considered a minor source for purposes of MACT subpart KKKK applicability. If the facility is subject to a MACT standard for which the first major compliance date has passed, the facility remains subject to that standard, regardless of any reduction in potential emissions which may result from no longer using the delisted HAP.

Abstract for [M080025]

Q: Does EPA approve the alternative monitoring procedures at the Flint Hills Resource's Joliet Facility (Joliet) in Joliet, Illinois, under 40 CFR part 63, subpart G? The facility has requested to reroute the emissions from a vent header system to a vent condenser followed by a carbon adsorber system for the maleic anhydride (MAN) process. Instead of regenerating the carbon adsorbers on site, FHR planned to send the spent canisters off site.

A: Yes. Joliet's June 20, 2006, request amended the original request dated October 3, 2005, stating that the carbon canister system would contain 4 parallel trains with two carbon canisters in series, in addition to other details sufficient for EPA's approval. (See ADI Control Number M080026.) Thus, per the amendments in the June 20, 2006, request, EPA approves the revised alternative monitoring plan pursuant to 40 CFR 63.151(f).

Abstract for [M080026]

Q: May Flint Hills Resource, LP, at its Joliet Facility in Joliet, Illinois, re-route the emissions from a vent header system to a vent condenser followed by a carbon adsorber system for the maleic anhydride (MAN) process and send the spent canisters off site, under 40 CFR part 63, subpart G?

A: No. EPA finds that this monitoring method is insufficient for demonstrating continuous compliance. Additionally, there is no proposed backup system for the “channel” analyzer in between the carbon canisters in each canister train. Finally, it is unclear exactly how many carbon canisters will be included in the proposed carbon adsorber system.

Abstract for [M080027]

Q: Does EPA waive the dioxin/furan (D/F) performance testing on Furnaces 2 and 6 of Jupiter Aluminum Corporation (Jupiter) in Hammond, Indiana, under 40 CFR part 63, subpart RRR? Jupiter has provided the baghouse inlet and outlet temperatures for both furnaces. The inlet and outlet temperatures for the baghouses on Furnaces 2 and 6 are below 130 degrees F, the D/F formation temperature.

A: Based on the information submitted, EPA waives Jupiter's requirement to test Furnace 2 for D/F. However, EPA believes for Furnace 6, a hole may have been in the ductwork during the testing on the old baghouse, and Jupiter has not repaired the hole. Therefore, at this time, EPA does not waive the requirement to test Furnace 6 for D/F. (See also ADI Control Number M080028.)

Abstract for [M080028]

Q1: Does EPA waive the dioxin/furan (D/F) performance testing on Furnaces 2 and 6 of Jupiter Aluminum Corporation (Jupiter) in Hammond, Indiana, under 40 CFR part 63, subpart RRR?

A1: No. EPA is clarifying that the D/F test waiver provided to Jupiter for Furnace 2 by letter dated December 19, 2005, is rescinded. (See ADI Control Number M080027.) Until Jupiter conducts performance testing that demonstrates compliance with 40 CFR 63.1515(i), EPA considers Jupiter to be in continuous noncompliance which may result in civil penalties under the Clean Air Act. As previously stated in EPA's letter to Jupiter dated October 10, 2006, EPA views any previous testing Jupiter conducted on Furnaces 2 and 6 as unreliable and unacceptable.

Q2: Does EPA approve the current method Jupiter uses of weighing the final end product instead of weighing the scrap charged in each furnace under 40 CFR part 63, subpart RRR?

A2: No. EPA does not approve the current method of weighing the final end product. Jupiter must propose a weighing plan that records the weight of scrap charged in each furnace.

Q3: Does EPA approve the intermittent lime injection schedule used by Jupiter under 40 CFR part 63, subpart RRR?

A3: No. EPA is clarifying that since Jupiter has not demonstrated compliance with the emission limits in NESHAP subpart RRR through the required compliance testing, EPA has not approved the intermittent lime injection schedule used by Jupiter.

Abstract for [M080029]

Q: Does EPA approve the use of the presence of a pilot flame as an alternative monitoring parameter (AMP), even without the use of assist gas in the flare, at the Murphy Oil USA, Incorporated refinery located in Superior, Wisconsin, which operates a gasoline loading rack subject to 40 CFR part 63, subpart R and 40 CFR part 63, subpart CC?

A: No. EPA determines that the data presented by Murphy does not adequately assure continuous compliance sufficiently to allow for pilot presence to be used in lieu of control device temperature. The method that Murphy plans to use to demonstrate continuous compliance was not used during the performance test, and we are unable to determine if such AMP is appropriate. In a previous determination, EPA discussed a proposed alternative monitoring program for a thermal oxidizer system, including the importance of flame stability. (See ADI Control number M000002 dated 10/05/1998.)

Abstract for [M080030] Deleted Abstract

Abstract for [M080031]

Q: Nucor Sheet Mill Group of Crawfordsville, Indiana, operates annealing furnaces, each consisting of thirty (30) individual burners and U-tubes. Under 40 CFR part 63, subpart DDDDD, does EPA consider this as a whole a “process heater,” or does it consider each individual U-tube burner, each exhausting through an individual stack to the atmosphere, itself a “process heater”?

A: EPA finds that the entire annealing furnace, with all 30 U-tubes and burners, is considered a single “process heater” with respect to this rule. EPA understands that each U-tube in a furnace cannot operate individually, because in order for the steel to be heated evenly, all three main zones must be used when operating.

Abstract for [M080034]

Q: Does EPA approve the waiver request from United States Steel in Granite City, Illinois, to test particulate emissions from two argon stir stations under 40 CFR part 63, subpart FFFFF?

A: Yes. EPA finds that the justification for a waiver provided by United States Steel under MACT subpart FFFFF adequately demonstrates the impracticability of testing the same baghouse again during operation of only the argon stir stations, and EPA determines that it is within United States Environmental Protection Agency guidance regarding the granting of such waivers.

Abstract for [M080035]

Q: Does EPA find that a performance test can be used to demonstrate compliance with the Paper and Other Web Coating MACT under 40 CFR part 63, subpart JJJJ, at the Rollprint Packaging Products, Inc. (Rollprint) facility in Addison, Illinois?

A: Yes. EPA finds that the testing demonstrates compliance with the requirements of 40 CFR 63.3320(1).

Abstract for [Z080004]

Q: Does EPA find that the Mercury NESHAP, under 40 CFR part 61, subpart E, applies to the sludge dryer within a wastewater pretreatment facility at the Chem-Plate Industries facility, located in Elk Grove Village, Illinois?

A: Yes. EPA finds that the Mercury NESHAP applies to all sludge treatment processes, regardless of process location. The provision does not provide for any special circumstances, such as the size of the waste treatment plant of likelihood of mercury in the effluent.

Abstract for [0800046]

Q: Anheuser-Busch, Incorporated receives barley by ship at its Manitowoc, Wisconsin, malting facility and unloads it by a self-unloading leg that dumps the barley into a hopper controlled by a flexible transition boot covering the end of the ship's self-unloading conveyor and the malt plant's grain receiving hopper. Does EPA consider this adequate control for particulate emissions under 40 CFR part 60 subpart DD?

A: No. EPA considers the entire self-unloading leg to be subject to the requirements of 40 CFR part 60 subpart DD. EPA finds that a flexible transition boot will adequately control particulate emissions from the end of the self-unloading leg and the grain receiving hopper at least as well as the requirements listed in 40 CFR 60.302(d)(1) and (d)(2). However, the flexible transition boot does not control emissions from the portion of the self-unloading leg that the boot does not cover.

Abstract for [0800047]

Q: Does EPA approve a gas treatment exemption for the Beecher Energy LLC (Beecher) facility located in Beecher, Illinois, under 40 CFR part 60, subpart WWW? Beecher uses landfill gas as a fuel to power internal combustion engines for electricity generators.

A: EPA finds that pursuant to 40 CFR 60.752(b)(2)(iii), collected landfill gas is required to be routed to a control system that complies with the requirements in either an open flare or a control system or enclosed combustor designed to reduce nonmethane organic compounds (NMOC), or a treatment system that processes the collected gas for subsequent sale or use. The landfill gas applicable to Beecher has been treated for sale or use. Once the landfill gas is treated, such facilities that buy or use the gas have no further associated obligations in regards to the NSPS subpart WWW.

Abstract for [0800048]

Q: British Petroleum Whiting Business Unit (BP) requests a review of an alternative monitoring plan (AMP) to the New Source Performance Standards for Petroleum Refineries at 40 CFR part 60, subpart J for its Beavon Stretford Tail Gas Treatment unit. May BP mathematically calculate the expected sulfur dioxide (SO2) concentration using the existing TRS measurements and equation 15-2 in Method 15 rather than physically converting the total reduced sulfur (TRS) compounds and then measuring the SO2 with a continuous emissions monitor (CEM) following Method 15A as specified in 40 CFR part 60, Appendix A?

A: Yes. EPA approves this change because this monitoring method is consistent with the provisions of NSPS, subpart J. The SO2 concentration calculated above must comply with the 250 parts per million limit established in 40 CFR 60.105(a)(7)(ii).

Abstract for [0800049]

Q: May British Petroleum Products North America, Incorporated (British), Whiting Business Unit in Whiting, Indiana, use fourteen hydrogen sulfide grab samples of loading rack emissions in lieu of installing a continuous emission monitoring system (CEM) as is required by 40 CFR part 60, subpart J (NSPS subpart J) for a vapor combustion unit (VCU)?

A: Yes. Based upon the information provided by British, EPA approves this alternative monitoring plan for the VCU pursuant to NSPS subpart J.

Abstract for [0800050]

Q: May British Petroleum Products North America, Incorporated (British), Whiting Business Unit in Whiting, Indiana, use seven hydrogen sulfide grab samples of loading rack emissions in lieu of installing a continuous emission monitoring system as is required by 40 CFR part 60, subpart J for a vapor combustion unit (VCU)?

A: No. British has not provided sufficient information to allow EPA to make a determination. British needs to provide additional information including: (1) An explanation of the conditions that ensures low amounts of sulfur in the gas stream at all times; (2) two weeks of additional daily H2S monitoring (14 samples); and (3) a description of how the two weeks of monitoring results compare to the typical range of H2S concentration (fuel quality) expected for the gas stream/system going to the affected fuel gas device.

Abstract for [0800051]

Q: Does EPA waive the mercury testing requirement under the National Emissions Standards for Mercury at 40 CFR 61.53 for BP Products North America, Inc. (BP) units in Indiana, since BP has demonstrated compliance with the mercury limits under the National Emission Standards for Hazardous Air Pollutants for Hazardous Waste Combustors (HWC MACT)?

A: Yes. EPA approves BP's request to use the HWC MACT testing to demonstrate compliance with the National Emission Standards for Mercury since the mercury emissions are well below the standard in the regulations.

Abstract for [0800052]

Q: Does EPA approve an alternative monitoring plan for 40 CFR part 60, subpart UUU requirements at the Criterion Catalysts & Technologies (Criterion) facility in Michigan City, Indiana? Criterion requests approval to continuously monitor the gas flow rate entering or exiting the wet scrubber in lieu of continuously monitoring the gas phase pressure drop across the scrubber.

A: Yes, conditionally. EPA concurs that the gas phase pressure drop is not an appropriate continuous monitoring parameter for a wet scrubber that does not use a Venturi design for particulate matter emission control. Pursuant to NSPS subpart UUU, EPA approves this alternative monitoring plan subject to the conditions specified in EPA's response letter to Criterion on September 6, 2007.

Abstract for [0800053]

Q: Does EPA approve an alternative timeline for well 49 at Davis Junction Landfill in Davis Junction, Illinois, to correct an exceedance of the five percent oxygen concentration standard under 40 CFR part 60, subpart WWW?

A: Yes. EPA conditionally approves Davis Junction's alternative timeline under NSPS subpart WWW. If Davis Junction cannot achieve an oxygen concentration below 5 percent by July 1, 2006, Davis Junction must expand the gas collection system within 120 days of the initial measurement of the exceedance, April 5, 2006.

Abstract for [0800054]

Q: Does EPA approve an alternative timeline to correct exceedances at the BFI Waste Systems of North American Davis Junction Landfill, located in Davis Junction, Illinois, under 40 CFR part 60, subpart WWW?

A: Yes. EPA conditionally approves Davis Junction Landfill's alternative timeline under NSPS subpart WWW. However, if Davis Junction Landfill cannot achieve an oxygen concentration below five percent by September 1, 2007, the gas collection system must be expanded within 120 days of the initial exceedance.

Abstract for [0800055]

Q: Does EPA approve an alternative monitoring plan (AMP) for the ExxonMobil (Exxon) facility in Joliet, Illinois, under 40 CFR part 60, subpart J? Exxon requests to continue the continuous monitoring of the Refinery Fuel Gas Mix Drum stream, and monitor an alternate parameter for the disulfide vent stream.

A: Yes. EPA approves this alternative monitoring request under NSPS subpart J. Exxon will continue to continuously monitor the refinery fuel gas mix drum stream and will monitor at least three times per week the weight percent of the spent wash for the Caustic Wash Drums as the alternative parameter in accordance with the AMP enclose with EPA's response.

Abstract for [0800056]

Q: Does EPA find the ALLU unit associated with the preparatory processes leading to gypsum stucco production, at the GP-Gypsum Corporation (GP) facility in Wheatfield, Indiana, is not subject to 40 CFR part 60, subpart OOO?

A: Yes. EPA finds that the ALLU unit is not subject to NSPS subpart OOO provisions. The ALLU unit is not part of the actual nonmetallic mineral production line and it does not function as a crusher, screener, or grinder; thus is not an affected facility subject to subpart OOO.

Abstract for [0800057]

Q: Does EPA approve the alternative compliance timeline to correct exeedances under CFR part 60, subpart WWW, at the Landcomp Corporation Landfill (Landcomp), located in Ottawa, Illinois?

A: No. EPA does not approve of Landcomp's request under NSPS subpart WWW. EPA does grant alternative compliance timelines to correct exceedances, but such requests need to be made within 15 days of the initial exceedance when the landfill determines that the exceedance cannot be corrected.

Abstract for [0800058]

Q: Does EPA approve the alternative timeline request from American Disposal Services of Illinois, Inc.'s Livingston Landfill (Livingston Landfill), located in Pontiac, Illinois, under 40 CFR part 60, subpart WWW?

A: Yes. EPA conditionally approves the alternative timeline under NSPS subpart WWW from Livingston's Well GW51R until December 6, 2007, to correct the August 8, 2007, positive pressure. If Livingston Landfill cannot achieve negative pressure at Well GW5IR by December 6, 2007, then Livingston Landfill must expand the gas collection system within 120 days of the initial exceedance, August 8, 2007.

Abstract for [0800059]

Q: Does EPA approve the alternative timeline request from American Disposal Services of Illinois, Inc.'s Livingston Landfill (Livingston Landfill), located in Pontiac, Illinois, under 40 CFR part 60, subpart WWW?

A: Yes. EPA conditionally approves the alternative timeline under NSPS subpart WWW from Livingston's Well GW90 until October 5, 2007, to correct the July 12, 2007, positive pressure. If Livingston Landfill cannot achieve negative pressure at Well GW90 by October 5, 2007, then Livingston Landfill must expand the gas collection system within 120 days of the initial exceedance, July 12, 2007.

Abstract for [0800060]

Q: Does EPA approve the alternative timeline request from American Disposal Services of Illinois, Inc.'s Livingston Landfill (Livingston Landfill), located in Pontiac, Illinois, under 40 CFR part 60, subpart WWW?

A: No. EPA does not approve Livingston Landfill's request for an alternative compliance timeline as of July 31, 2007, under NSPS subpart WWW. Although EPA does grant alternative compliance timelines to correct exceedances, these requests need to be made within 15 days of the initial exceedance when the landfill determines that the exceedance cannot be corrected.

Abstract for [0800061]

Q: Does EPA approve the alternative timeline request from American Disposal Services of Illinois, Inc.'s Livingston Landfill (Livingston Landfill), located in Pontiac, Illinois, under 40 CFR part 60, subpart WWW?

A: No. EPA does not approve of Livingston Landfill's request for an alternative compliance timeline of May 30, 2007 under NSPS subpart WWW. Although EPA does grant alternative compliance timelines to correct exceedances, these requests need to be made within 15 days of the initial exceedance when the landfill determines that the exceedance cannot be corrected.

Abstract for [0800062]

Q: Does EPA approve a request for alternative temperatures at Waste Management's Milam Recycling and Disposal Facility (Milam) located in East St. Louis, Illinois, under 40 CFR part 60, subpart WWW, at wellheads MW48, MW49, MW50, MW51, MW55, MW56, and MW57?

A: Yes, on an interim basis. Milam needs to provide EPA with data that demonstrate that the increased temperature at the specific wells will not cause detrimental results, before it can provide final approval. EPA will allow Milam, in the interim, to operate wells MW48, MW49, MW50, MW51, MW55, MW56, and MW57 at the alternative temperature 140 degrees Fahrenheit and require Milam to report at least three (3) months worth of data, demonstrating that the increased temperature does not cause subsurface fires or affect levels of carbon monoxide, oxygen, or other landfill gas constituents, including the methanogenic process.

Abstract for [0800063]

Q: Waste Management's Milam Recycling and Disposal Facility (Milam) located in East St. Louis, Illinois, is subject to 40 CFR part 60, subpart WWW (NSPS). Does EPA approve an alternative temperature of 140 degrees Fahrenheit at wellheads numbers MW10, MW11, MW19, MW23, MW24, MW27, MW29, MW31, MW32, MW38, MW43, MW47, MW48, MW49, MW50, MW51, MW55, MW56, MW57, and MW53?

A: Yes. EPA finds that Milam has demonstrated that the higher operating temperatures do not cause subsurface oxidation. Therefore, EPA approves the higher operating temperature of 140 degrees Fahrenheit at the wells. Refer also to Abstract ADI Control No. 0800062.

Abstract for [0800064]

Q: Does EPA approve the alternative timeline request to correct exceedances of the five percent oxygen concentration at the Onyx-Valley View Landfill (Onyx), which is located in Decatur, Illinois, under 40 CFR part 60, subpart WWW? Onyx is specifically requesting an extension of 30 days to reduce the oxygen concentration levels below 5 percent.

A: Yes. EPA conditionally approves Onyx's alternative timeline of 30 days under NSPS subpart WWW. If Onyx cannot achieve an oxygen concentration below 5 percent within 30 days, Onyx must expand the gas collection system within 120 days of the initial measurement of the exceedance.

Abstract for [0800065]

Q1: Does EPA approve the proposal from the Veolia Environmental Services (VES) Orchard Hills Landfill located in Davis Junction, Illinois, to reduce the surface monitoring frequency in capped areas of the landfill to an annual basis, once three consecutive quarters without a monitored exceedance of the operational standard has been demonstrated in these capped areas, under 40 CFR part 60, subpart WWW?

A1: No. EPA finds that the reduced monitoring provision of NSPS does not apply under NSPS subpart WWW. VES-Orchard Hills Landfill must continue to conduct surface monitoring each quarter on areas with cover in place.

Q2: Does EPA approve the proposal from the Veolia Environmental Services (VES) Orchard Hills Landfill located in Davis Junction, Illinois, to widen the spacing between intervals from 30 meters to 60 meters in areas that have had or will have synthetic geomembrane-final cover installed after three consecutive quarters of surface emissions monitoring compliance has been met, under 40 CFR part 60, subpart WWW?

A2: Yes. EPA conditionally approves VES-Orchard's proposal. VES-Orchard's can adopt the 60 meters-spacing under NSPS subpart WWW, but only after data collected from three quarterly monitoring events demonstrate that such widening is appropriate and there is no exceedances.

Q3: Could EPA clarify for the Veolia Environmental Services (VES) Orchard Hills Landfill located in Davis Junction, Illinois, whether gas collection and control system connections to leachate management structures or to interim landfill gas collectors in areas of the landfill, which are not yet required to have controls, are subject to the monitoring and operating requirements of 40 CFR part 60, subpart WWW?

A3: No. EPA finds that if the landfill is not required to install the gas collection and control system under NSPS subpart WWW, then it is not required to monitor or operate that system.

Abstract for [0800066]

Q: Does EPA approve the alternative timeline to correct exceedances at the Allied Waste Industries, inc. Quad Cities Landfill (Quad Cities) located in Milan, Illinois, under 40 CFR part 60, subpart WWW?

A: Yes. EPA approves of Quad Cities' alternative timeline under NSPS subpart WWW. However, if Quad Cities cannot achieve an oxygen concentration below 5 percent by June 30, 2007, Quad Cities must expand the gas collection system within 120 days of the initial exceedance.

Abstract for [0800067]

Q: Quad Cities Landfill (Quad Cities) located in Milan, Illinois, is subject to 40 CFR part 60, subpart WWW. Does EPA approve its request to extend the deadline until December 1, 2006, to correct an exceedance of the five percent oxygen concentration standard at one of its gas collection wells (Well 12)?

A: No. EPA will give Quad Cities until November 2, 2006, which is 120 days from the original measured exceedance, to bring the well into compliance. If Quad Cities cannot achieve an oxygen concentration below 5 percent by November 2, 2006, Quad Cities must expand the gas collection system within 120 days of the initial measurement of the exceedance, July 5, 2006.

Abstract for [0800068]

Q1: Pursuant to 40 CFR 60 subpart WWW, may BFI Waste Systems of North America, Inc., Quad Cities Landfill, Milan, Illinois, waive nitrogen monitoring at interior wellheads and monitor only oxygen?

A1: Yes. EPA approves this request since the NSPS subpart WWW rule allows for a landfill to monitor either nitrogen or oxygen.

Q2: Pursuant to 40 CFR 60 subpart WWW, may BFI Waste Systems of North America, Inc., Quad Cities Landfill, Milan, Illinois, meet all operating conditions 180 days after start-up of new wells?

A2: No. EPA has reviewed this request further and still cannot approve this request.

Q3: Pursuant to 40 CFR 60 subpart WWW, may BFI Waste Systems of North America, Inc., Quad Cities Landfill, Milan, Illinois, treat Quad Cities Landfill as a separate landfill from Millennium Waste Landfill to reduce the frequency of surface scan requirements?

A3: No. EPA finds that the Quad Cities Landfill and the Millennium Waste Landfill are considered one landfill under the NSPS requirements.

Q4: Pursuant to 40 CFR 60 subpart WWW, may BFI Waste Systems of North America, Inc., Quad Cities Landfill, Milan, Illinois, be exempt from the monitoring, recordkeeping, and reporting requirements for treated landfill gas?

A4: Yes. EPA approved this request in the BFI Quad Cities treatment of landfill gas determination letter dated April 5, 2006. As a clarification, EPA approves the flare as part of the treatment system when it is combusting treated gas. If the flare is controlling emissions that are not treated, then it is subject to the requirements of 40 CFR 60.752(b)(2)(iii) (A) and (B).

Q5: Pursuant to 40 CFR 60, subpart WWW, may BFI Waste Systems of North America, Inc., Quad Cities Landfill, Milan, Illinois, consider as approved the closure report BFI submitted?

A5: No. EPA rejects the report, because Quad Cities Landfills and Millennium Landfill are considered one landfill under NSPS, and EPA requires the closure report to be submitted when the landfill, including Quad Cities and Millennium Landfills, ceases accepting wastes at the landfill, which has not yet occurred.

Q6: Pursuant to 40 CFR 60, subpart WWW, may BFI Waste Systems of North America, Inc., Quad Cities Landfill, Milan, Illinois, be exempt from the testing requirement under CFR part 60 subpart WWW since the landfill gas is treated?

A6: Yes. EPA approved this request in the BFI Quad Cities treatment of landfill gas determination letter dated April 5, 2006. As a clarification, EPA approves the flare as part of the treatment system when it is combusting treated gas. If the flare is controlling emissions that are not treated, then it is subject to the requirements of 40 CFR 60.752(b)(2)(iii) (A) and (B).

Abstract for [0800069]

Q1: Does EPA consider compression, de-watering, and filtering the landfill gas down to at least 10 microns a treatment under 40 CFR part 60, subpart WWW, at the BFI Waste Systems of North America, Incorporated's Quad Cities Landfill (BFI) facility located in Milam, Illinois?

A1: Yes. EPA considers compression, de-watering, and filtering the landfill gas down to at least ten microns a treatment for the purposes of 40 CFR 60.752(b)(2)(iii)(C). This response is consistent with several previous determinations made by the Agency and with the Federal Register Proposed Rule Amendments dated May 23, 2002.

Q2: How does EPA clarify that once the landfill gas at the BFI facility is treated pursuant to 40 CFR 60.752(b)(2)(iii)(C), it is no longer subject to the testing, monitoring, and recordkeeping requirements found at 60.752(b)(2)(iii)(B)?

A2: The Federal Register Proposed Rule Amendments clarify that once the landfill gas is treated, the facilities that buy or use the gas have no further obligations related to the NSPS. Therefore, EPA finds that BFI would not be subject to the testing, monitoring, and recordkeeping requirements located at 60.752(b)(2)(iii)(B). However, emissions from any atmospheric vent from the gas treatment system, including any compressor, are subject to the requirements of 40 CFR 60.752(b)(2)(iii)(A) and (B). This does not include exhaust from an energy recovery device. This determination is consistent with previous EPA determinations. The Federal Register Proposed Rule Amendments from 2002 are meant to be a clarification of the existing NSPS, not changes in the rule.

Abstract for [0800070]

Q: Does EPA approve the request for an alternative timeline to correct exceedances at the Allied Waste Industries, Inc. Quad Cities Landfill (Quad Cities Landfill) located in Milan, Illinois, under 40 CFR part 60, subpart WWW?

A: Yes. EPA conditionally approves an alternate timeline for Quad Cities Landfill to correct the oxygen exceedances at Well 12 but only until August 29, 2007 (not August 31, 2007 as Quad Cities Landfill requested). EPA will only approve an alternate timeline for correction of oxygen exceedances up to 120 days of the initial exceedance which in this case is August 29, 2007. If Quad Cities Landfill cannot achieve an oxygen concentration below 5 percent by August 29, 2007, then Quad Cities Landfill must have the gas collection system expanded by August 29, 2007, which is 120 days of the initial exceedance, May 1, 2007.

Abstract for [0800071]

Q: Does EPA approve Natural Gas Pipeline Company of America's request not to monitor the total sulfur content of the gaseous fuel combusted in the nine Solar Model Saturn and one Solar Model Taurus natural gas-fired turbines at its Compressor Station 113 in Shorewood, Illinois, as allowed by the revised Standards of Performance for Stationary Gas Turbines, 40 CFR part 60, subpart GG?

A: Yes. EPA approves NGPL's request not to monitor the total sulfur content because NGPL provided a Federal Energy Regulatory Commission (FERC) tariff sheet for the gaseous fuel, demonstrating that the “maximum total sulfur content of the fuel is less than 20.0 grains/100 scf or less” as required by 40 CFR 60.334(h)(3)(1). The State of Illinois is the delegated authority and maintains the right to implement more stringent requirements than those outlined above.

Abstract for [0800072]

Q: Does EPA approve the request from Spoon Ridge Landfill in Fairview, Illinois, to return to Tier 1 nonmethane organic compound (NMOC) emission rate reporting requirements after the current Tier 2 sampling and NMOC rate demonstration expires on April 23, 2012, under 40 CFR part 60, subpart WWW? In lieu of conducting Tier 2 sampling in 2012, Spoon Ridge would like approval to return to annual NMOC emission rate reporting in accordance with 40 CFR 60.752(b)(1)(ii) after 2012.

A: Yes. EPA finds that Tier 2 sampling would be normally required by April 23, 2012, under NSPS subpart WWW. If Spoon Ridge does not conduct this Tier 2 sampling, then 2012 emission would be calculated using Tier 1 analysis.

Abstract for [0800073]

Q: Does EPA consider that 40 CFR 60.283 applies to total reduced sulfur (TRS) emissions from digesters' condensate streams that are discharged to the waste water treatment system and released through a sewer stack for Thilmany, LLC's Kraft Pulp Mills in Kaukauna, Wisconsin, under 40 CFR part 63, subpart BB?

A: No. EPA finds that the emission limits provided under 40 CFR 60.283 do not apply to the condensate streams discharged from Thilmany's digesters. The background information documents (BID) for the Kraft Pulp Mill NSPS indicates that the intent of subpart BB was to regulate the TRS emissions in the non-condensable gases emitted from the digester systems and not the emissions caused by the dissolved TRS in the condensate streams. Furthermore, the NSPS does not show the sewer stack as being part of the affected facilities.

Abstract for [0800074]

Q: Does EPA approve the request from United States Gypsum Company (USG), located in East Chicago, Indiana, to waive, under 40 CFR part 60, subpart OOO, the minimum of 60 dry standard cubic feet (dscf) of sampling air collected per run at 40 CFR 60.675(b)(1), in addition to waiving the two minutes per point sampling requirement in Method 5?

A: Yes. EPA conditionally approves USG to carry out performance testing as described in the EPA response. This proposal suggested the sampling volume be scaled down to 30 dsfc, and that twelve points in the stack be sampled for a duration of two and a half minutes each under 40 CFR part 60, subpart OOO. USG must operate the shredder system at its maximum wallboard processing rate and comply with all other testing guidelines.

Abstract for [0800075]

Q: Does EPA find that 40 CFR part 60, subpart AAa, applies to Alton Steel, Inc.'s (Alton) Furnace No. 7 (furnace) as a result of a construction project at the facility?

A: Yes. EPA finds that it is not necessary to determine whether the projects meets one of the modification exemptions set forth at 40 CFR 60.14(e). NSPS subpart AAa applies to electric arc furnaces that are modified after August 17, 1983, and a modification is any physical or operational change which results in an increase in the emission rate to the atmosphere of any pollutant to which a standard applies.

Abstract for [0800076]

Q: Does EPA approve the alternative monitoring plan requested by CITGO's Lemont Refinery for the continuous opacity monitoring system (COMS) on the fluid catalytic cracking unit (FCCU), under 40 CFR part 60, subpart J? CITGO entered into a Consent Decree in January 2005, which required the Lemont Refinery to install a wet gas scrubber (WGS) on the FCCU unit. CITGO maintains that the moisture in the exhaust from the WGS will interfere with the ability of the COMBS to take accurate readings.

A: Yes. EPA approves an alternative monitoring plan for CITGO pursuant to 40 CFR 60.13(i)(1). The specific points of the alternative monitoring plan are specified in EPA's response to CITGO on July 23, 2007.

Abstract for [0800077]

Q: Does EPA approve the alternative timeline to correct exceedances at the Davis, Junction Landfill (Davis Junction), located in Davis Junction, Illinois, under 40 CFR part 60, subpart WWW?

A: Yes. EPA approves Davis Junction's alternative timeline under NSPS subpart WWW. If Davis Junction cannot achieve an oxygen concentration below five percent by June 1, 2007, the facility must expand the gas collection system within 120 days of the initial exceedance.

Abstract for [0800078]

Q: Does EPA approve the alternative timeline to correct exceedances at the Davis, Junction Landfill (Davis Junction), located in Davis Junction, Illinois, under 40 CFR part 60, subpart WWW?

A: Yes. EPA conditionally approves Davis Junction's alternative timeline under NSPS subpart WWW. If Davis Junction cannot achieve an oxygen concentration below five percent by June 1, 2007, the facility must expand the gas collection system within 120 days of the initial exceedance.

Abstract for [0800079]

Q: Does EPA consider the landfill gas at the Devonshire Power partners, LLC (Devonshire) Landfill, located in Dolton, Illinois, subject to the New Source Performance Standards (NSPS) and National Emission Standard for Hazardous Air Pollutants (NESHAP) requirements once treated per 40 CFR 60.752(b)(2)(iii)(c)?

A: No. EPA finds that once landfill gas is treated pursuant to 40 CFR 60.752(b)(2)(iii)(c), that the gas is no longer subject to the monitoring and recordkeeping requirements found at 40 CFR 60.756(b) and 60.758(b) and (c). The determination letter includes further compliance information.

Abstract for [0800080]

Q: Does EPA find it acceptable to inject an excess of hydrogen peroxide (H2O2) into the wastewater stream as a means to control the hydrogen sulfide (H2S) emissions, instead of using a continuous monitoring system (CMS) on the infrequently operated North Benzene Removal Unit (NBRU), at the ExxonMobil Joliet Refinery, in Joliet, Illinois, under 40 CFR part 60, subpart J?

A: Yes. EPA finds that the hydrogen peroxide injection and residual hydrogen peroxide meter are a sufficient replacement of the H2S CMS. However, EPA is not assured that 5 ppm H2O2 is an adequate limit to ensure compliance. EPA requires a preliminary value of at least 10 parts per million. Once ExxonMobil has submitted sufficient data to show that this limit can be lower, EPA will consider reducing the limit. EPA's May 2, 2007 response letter contains further details.

Abstract for [0800081]

Q: Does EPA approve the alternative monitoring plan for propane vapor from a vent gas absorber (VGA), requested by the ExxonMobil Joliet Refinery, located in Joliet, Illinois, under 40 CFR part 60, subpart J? ExxonMobil's proposal is to remove the car seal and allow vent gas from the VGA to be routed either to the alkylation unit's isostripper reboiler heater, or to a flare.

A: Yes. EPA conditionally approves the alternative monitoring plan under NSPS subpart J. However, the Joliet facility is required to conduct a monitoring schedule per the conditions detailed in EPA's April 26, 2008 response letter.

Abstract for [0800082]

Q: Does EPA approve the alternative monitoring plan (AMP) submitted by ExxonMobil's Joliet Refinery, located in Joliet, Illinois, for demonstrating compliance with the opacity limit under 40 CFR part 60, subpart J? The Joliet Refinery currently operates a continuous monitoring system (COMS) to demonstrate compliance.

A: Conditional. EPA approves alternative monitoring pursuant to 40 CFR part NSPS, subpart J, given five conditions are met, as outlined in the Agency's response to ExxonMobil on February 5, 2007.

Abstract for [0800083]

Q: Does EPA find that 40 CFR part 60, subpart DD, applies to a grain terminal elevator when co-located with other facilities, as described per the request of the Illinois Environmental Protection Agency?

A: Yes. EPA finds that the applicability of NSPS subpart DD to a grain terminal elevator would not be impacted by entering into a contractual agreement with an ethanol plant. In respect to NSPS subpart DD, EPA outlined several issues regarding ownership and facilities with multiple products, as described in the EPA response letter of April 12, 2007.

Abstract for [0800084]

Q: Does EPA approve the request from the United States Gypsum Company (USG), for an alternative method for fulfilling the testing requirements at 40 CFR part 60, subpart OOO? Specifically, USG requests that Method 9 visible emission readings be utilized as an alternative method of fulfilling the test methods and procedures for determining compliance with the particulate matter standards.

A: No. EPA denies USG's request under NSPS subpart OOO. EPA will allow USG to reduce the time of each of the three test runs to thirty minutes as an alternative performance testing arrangement to fulfill the testing requirements of NSPS subpart OOO. USG must operate the shredder system at its maximum wallboard processing rate and comply with all other testing guidelines required.

Abstract for [0800085]

Q: Does EPA approve the alternative timeline request from the Valley View Landfill (Valley View), located in Decatur, Illinois, to correct an exceedance under 40 CFR part 60, subpart WWW?

A: Yes. EPA conditionally approves Valley View's alternative timeline under NSPS subpart WWW. If Valley cannot achieve an oxygen concentration below five percent by October 7, 2006, Valley View must expand the gas collection system within 120 days of the initial measurement of the exceedance.

Abstract for [0800086]

Q: Does EPA approve the change in standard operating procedures for Wells GEW-14, GEW-16, and GEW-28 at the Veolia Orchard Hills Landfill (VOHL), located in Davis Junction, Illinois, under 40 CFR part 60, subpart WWW? Specifically, VOHL requests a change involving oxygen concentration monitoring.

A: Yes. EPA conditionally approves, in part, VOHL's request to change standard operating procedures for the specified Wells under NSPS subpart 60. VOHL must continue to monitor wells for pressure, oxygen, and temperature, as well as surface monitoring for methane. VOHL must perform all necessary actions to bring oxygen concentrations below the five percent threshold and report any exceedances. Specific changes to the standard operating procedures are listed in EPA's response letter dated March 28, 2007.

Abstract for [0800087]

Q: Is a process that will collect hydrogen sulfide and other sulfur compounds and further process them to produce sulfuric acid at a synthetic natural gas plant at Power Holdings, LLC, in Illinois, subject to the New Source Performance Standards for Sulfuric Acid Plants at 40 CFR part 60, subpart H?

A: Yes. EPA finds that NSPS subpart H applies to Power Holdings because the plant will collect hydrogen sulfide and other sulfur compounds and further process them to produce sulfuric acid. Hydrogen sulfide will be burned. Furthermore, the plant would not be exempt from the rule because it is not a metallurgical plant, a chamber process plant, or an acid concentrator.

Abstract for [M080037]

Q: Request for guidance on implementation and compliance monitoring of the capture, collection and ventilation requirements in the Secondary Aluminum MACT, subpart RRR.

A: The Secondary Aluminum MACT adopts by reference Chapters 3 and 5 of the Industrial Ventilation: A Manual of Recommended Practice, 23rd edition, published by the American Conference of Governmental Industrial Hygienists (ACGIH). As required by 40 CFR 63.1506(c) of subpart RRR, owners or operators of affected sources or emissions units with add-on air pollution control devices must: Design and install a system for the capture and collection of emissions to meet the engineering standards for minimum exhaust rates as published by the American Conference of Governmental Industrial Hygienists in chapters 3 and 5 of “Industrial Ventilation: A Manual of Recommended Practice.”

Abstract for [M080036]

Q: How can an owner or operator of a secondary aluminum production facility know that the scrap they are processing is “entirely free of paints, coatings, and lubricants”?

A: Knowledge of whether the scrap material being processed is “entirely free of paints, coatings, and lubricants” can be gained through two methods. One method would be to maintain direct control of the scrap material being processed by processing scrap generated within the facility or from other facilities within the same company that the owner or operator knows has not been subjected to paints, coatings and lubricants or where they know paints, coatings and lubricants have been removed consistent with the definition of “Clean charge.” Similarly, the owner or operator also may process scrap from outside entities where they are familiar with the history of the scrap and, therefore, know that the scrap meets the definition of “Clean charge.”

Abstract for [0800088]

Q1. Is the addition of three vent streams from the Delayed Coker Unit (DCU) to the common flare header connecting three flares at the Shell's Puget Sound Refinery (PSR) facility (DCU Project) that occurred in 1983 considered a modification of the flare under the New Source Performance Standards (NSPS) for Petroleum Refineries, subpart J?

A1. Yes. EPA has determined that the DCU Project resulted in a modification of the PSR flares triggering NSPS subpart J applicability. The physical change that was made upstream of the flares at a refinery process unit occurred after the effective date of the rule and it resulted in an operational change to the PSR flares since combusting gas streams not previously combusted in the flare is a change in how the flare operates. The operational change to the PSR flares resulted in an increase in the sulfur dioxide emissions rate to the atmosphere such that they were modified under the NSPS.

Q2. Is the redesign and replacement of the flare tip, a physical change to the PSR East Flare facility made in 1990, considered a modification of the flare under the NSPS subpart J?

A2. EPA agrees that if in fact the replacement of the PSR flare tip resulted in a decrease of its maximum capacity, the redesigned flare was not modified under the NSPS provisions and is not subject to NSPS subpart J. The change would decrease the kilograms per hour of hydrogen sulfide routed to the flare, resulting in an emissions decrease of sulfur dioxide emissions to the atmosphere.

Abstract for [0800089]

Q: Are the dryers at a bark burner system at a Louisiana-Pacific OSB facility in Thomasville, Alabama, “process heaters” and thereby excluded from 40 CFR part 60, subpart Db?

A: No. The definition of steam generating unit under NSPS subpart Db excludes “process heaters,” which are defined as devices used primarily to heat a material to initiate or promote a chemical reaction. The primary purpose of heating wood flakes in the dryers is to dry them, rather than to invoke a chemical reaction either within the dryers or downstream of the dryers. Therefore, the dryers do not qualify for the process heater exclusion.

Abstract for [0800090]

Q1: Does NSPS subpart J apply to the proposed Hyperion Energy Center (HEC) near Elk Point, South Dakota?

A1: No. Subpart J applies to various affected facilities at petroleum refineries based on the date the affected facility commenced construction, reconstruction, or modification. Since the Hyperion Energy Center has not yet begun construction it is not subject to Subpart J. To be subject to subpart J, HEC's Claus sulfur recovery plant and fuel gas combustion devices would have had to begin construction on or before May 14, 2007, except for flares, which would have had to begin construction on or before June 24, 2008.

Q2: Do the synthetic gas and pressure swing adsorption (PSA) tail gas to be produced at the integrated gasification combined cycle power plant gasification block at the proposed Hyperion Energy Center near Elk Point, South Dakota, constitute “fuel gas” under 40 CFR part 60, subpart Ja?

A2: Yes. Because the synthetic gas and PSA tail gas will be generated at a petroleum refinery and combusted and meet the definition of “fuel gas” in 40 CFR 60.101a, therefore these are subject to NSPS subpart Ja. This definition is not restricted to gas produced by a refinery process unit, but even if it were, the gasification block will be a refinery process unit, because it is a segment of a refinery in which gasification, a specific processing operation, will be conducted.

Abstract for [Z080005]

Q: Is a proposed integrated gasification combined cycle (IGCC) power plant at the Hyperion Energy Center near Elk Point, South Dakota, subject to 40 CFR part 63, subpart CC?

A: Yes. Subpart CC applies to the IGCC system. The IGCC system is a “petroleum refining process unit” because it will be located at an establishment primarily engaged in petroleum refining and because it produces hydrogen. Additionally, the IGCC system will be located at a plant site where: (1) The plant site is a major source of hazardous air pollutants (HAPs), and (2) the IGCC system emits or has equipment containing or contacting one or more of the HAPs listed in Table 1 of Subpart CC.

Dated: December 23, 2008.
Lisa Lund,
Director, Office of Compliance.

[FR Doc. E8-31117 Filed 12-30-08; 8:45 am]

BILLING CODE 6560-50-P